DEPARTMENT OF COMMERCE

National Oceanic and Atmospheric Administration

[I.D. 051304B]

NOAA Recreational Fisheries Strategic Plan Public Meeting; Correction

AGENCY: National Marine Fisheries Service (NMFS), National Oceanic and Atmospheric Administration (NOAA), Commerce.

ACTION: Notice of public meetings; correction.

SUMMARY: The National Marine Fisheries Service (NOAA Fisheries) published a document in the Federal Register on May 19, 2004, concerning a public meeting to present a draft of the NOAA Fisheries Strategic Plan for Recreational Fisheries 2005-2010. The primary goal of the meeting is to collect public input on the DRAFT plan. Additional meetings are planned for Texas, Alabama, and North Carolina. Specific dates, times, and locations to these meetings will be published in the Federal Register. This document contained incorrect dates.

FOR FURTHER INFORMATION CONTACT: Michael Kelly, Division Chief, Office of Constituent Services at (301) 713-2379.

Correction

1. In the Federal Register of May 19, 2004, in FR Doc. 04-11351, on page 28882, in the second column, correct the “DATES” caption to read:

DATES: The meetings will be held on June 3, and June 23, 2004. See SUPPLEMENTARY INFORMATION for specific dates and times.

2. On page 28882, for the meeting held in Honolulu, HI, in the third column, in the 17th line, correct “June 26, 2004” to read “June 23, 2004.”

Dated: June 7, 2004.
Rebecca Lent,
Deputy Assistant Administrator for Regulatory Programs, National Marine Fisheries Service.

[FR Doc. 04-13208 Filed 6-10-04; 8:45 am]

BILLING CODE 3510-22-S